ENVIRONMENTAL PROTECTION AGENCY

40 CFR Part 761

[EPA-HQ-OPPT-2004-0123; FRL-7687-9]

Polychlorinated Biphenyl (PCB) Site Revitalization Guidance Under the Toxic Substances Control Act (TSCA); Notice of Availability

AGENCY: Environmental Protection Agency (EPA).

ACTION: Notice of availability.

SUMMARY: The Agency is making available a guide for complying with the Toxic Substances Control Act (TSCA) regulations for the cleanup and disposal of polychlorinated biphenyl (PCB) contamination. In August 2003, EPA determined that the distribution in commerce of real property contaminated with PCBs is not a prohibited distribution in commerce of PCBs. As a result, the transfer in ownership of contaminated real property may serve to expedite cleanup efforts of contaminated properties and result in increased opportunities for economic redevelopment of land that otherwise would remain barren and unsightly. The guidance document, “Polychlorinated Biphenyl (PCB) Site Revitalization Guidance Under the Toxic Substances Control Act (TSCA),” will assist individuals in navigating the TSCA PCB regulations in 40 CFR part 761 for relevant PCB cleanup and disposal requirements. It should be useful to individuals who are planning or are engaged in PCB remediation activities (e.g., the redevelopment of sites with PCB contamination), as well as State environmental officials who are implementing State response programs, in complying with the PCB waste management requirements promulgated under section 6(e) of TSCA.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Rebecca Woods or Sara McGurk, National Program Chemicals Division (7404T), Office of Pollution Prevention and Toxics, Environmental Protection Agency, 1200 Pennsylvania Ave., NW., Washington, DC 20460-0001; telephone number: (202) 566-1277 or (202) 566-0480; e-mail address: woods.rebecca@epa.gov or mcgurk.sara@epa.gov.

SUPPLEMENTARY INFORMATION:

I. General Information

A. Does this Action Apply to Me?

You may be potentially affected by this action if you own or acquire real property that has been contaminated with PCBs. The requirements for cleanup and disposal of PCB remediation waste are codified at 40 CFR 761.50(b)(3) and 761.61 and are applicable to the cleanup of wastes resulting from the disposal (e.g., spills, leaks, or any uncontrolled discharge) of liquids containing PCBs. Since the PCB regulations promulgated under section 6(e) of TSCA are not delegable, these Federal requirements serve as the baseline for the management of PCB wastes. Potentially affected entities may include, but are not limited to:

• Oil and Gas Extraction (NAICS code 21111), e.g., Former and existing facilities with surfaces contaminated by PCBs.

• Electric Power Generation, Transmission and Distribution (NAICS code 2211), e.g., Former and existing facilities with surfaces contaminated by PCBs.

• Construction (NAICS code 23), e.g., Former and existing facilities with surfaces contaminated by PCBs.

• Food Manufacturing (NAICS code 311), e.g., Former and existing facilities with surfaces contaminated by PCBs.

• Paper Manufacturing (NAICS code 322), e.g., Former and existing facilities with surfaces contaminated by PCBs.

• Petroleum and Coal Products Manufacturing (NAICS code 324), e.g., Former and existing facilities with surfaces contaminated by PCBs.

• Primary Metal Manufacturing (NAICS code 331), e.g., Former and existing facilities with surfaces contaminated by PCBs.

• Rail Transportation (NAICS code 48211), e.g.,Former and existing facilities with surfaces contaminated by PCBs.

• Lessors of Real Estate (NAICS code 5311), e.g., Former and existing facilities with surfaces contaminated by PCBs.

• Professional, Scientific and Technical Services (NAICS code 54), e.g., Testing laboratories, environmental consulting.

• Waste Treatment and Disposal (NAICS code 5622), e.g., Former and existing facilities with surfaces contaminated by PCBs.

• Repair and Maintenance (NAICS code 811), e.g., Repair and maintenance of appliances, machinery, and equipment.

• Public Administration (NAICS code 92), e.g., Federal, State, and local agencies.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II. If you have any questions regarding the applicability of this action to a particular entity, consult either technical person listed under FOR FURTHER INFORMATION CONTACT.

B. How Can I Get Copies of this Document and Other Related Information?

1. Docket. EPA has established a docket for this action under docket identification (ID) number EPA-HQ-OPPT-2004-0123. Publicly available docket materials are available electronically at http://www.regulations.gov or in hard copy at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr.

II. What Action is the Agency Taking?

This action announces the availability of a guidance document entitled, Polychlorinated Biphenyl (PCB) Site Revitalization Guidance Under the Toxic Substances Control Act (TSCA). This guidance document was developed to provide assistance to individuals who need to navigate the TSCA PCB regulations for the requirements applicable to the cleanup and disposal of PCB remediation waste. As guidance, this document presents existing requirements and is not intended to impose any new requirements. The primary focus of this guidance is the self-implementing aspects of the PCB remediation waste provision at 40 CFR 761.61 which governs the management of PCB waste generated as the result of PCB spills and associated cleanup activities.

Polychlorinated biphenyls are a class of 209 synthetic compounds which have no known counterpart in the natural environment. They were first manufactured for commercial use in 1929 under the brand name “Arochlor.” PCBs have been used in many electrical devices due to their superior cooling, insulating, and dielectric properties. In addition, PCBs have been used in various products for example as plasticizers, pesticide extenders, flame retardants and fillers. The unique combination of physical and chemical properties of PCBs, which made them so valuable commercially, are the same traits that make releases environmentally detrimental (e.g., very stable compounds which resist breakdown from high temperatures and aging; are not biodegradable and are therefore persistent in the environment; are not considered volatile; are odorless unless mixed with other solvents and additives). The Toxic Substances Control Act, enacted October 1976, mandated specific prohibitions and/or restrictions on the manufacture, processing, use, and distribution in commerce of PCBs, and any combination of those activities (see section 6(e) of TSCA). Regulations implementing these requirements are promulgated at 40 CFR part 761.

The Agency anticipates this guidance will be beneficial to individuals who want to use the self-implementing cleanup procedures and to State environmental officials who are implementing voluntary cleanup and response programs, and seek to be in compliance with the Federal requirements under TSCA for PCB remediation waste management activities. Finally, the guidance document provides EPA's interpretation of the use authorization for contaminated porous surfaces at 40 CFR 761.30(p) in light of the Court's ruling in Utility Solid Waste Activities Group v. EPA, 236 F.3d 749 (D.C. Circuit 2001) (USWAG). In USWAG, the Court vacated a technical amendment to the use authorization for porous surfaces because the amendment was not promulgated through notice and comment rulemaking (see the Federal Register of June 20, 2003 (68 FR 36927) (FRL-7314-2) for additional background information). In the future, EPA plans to initiate notice and comment rulemaking to further clarify the applicability of the use authorization for contaminated porous surfaces.

Copies of the guidance document are available from these sources:

1. The Agency's PCB website at http://www.epa.gov/pcb under “Interpretive Guidance.”

2. http://www.regulations.gov.

3. The TSCA Assistance Information Service (TAIS), call (202) 554-1404 or send an e-mail to TSCA-Hotline@epa.gov.

4. Either technical person listed under FOR FURTHER INFORMATION CONTACT.

List of Subjects in 40 CFR Part 761

Environmental protection, Hazardous substances, Labeling, Polychlorinated biphenyls (PCBs), Reporting and recordkeeping requirements.

Dated: March 23, 2006.
Susan B. Hazen,
Acting Assistant Administrator, Office of Prevention, Pesticides and Toxic Substances.

[FR Doc. 06-3206 Filed 4-3-06; 8:45 am]

BILLING CODE 6560-50-S